DEPARTMENT OF TRANSPORTATION

Coast Guard

33 CFR Part 165

[CGD09-01-099]

RIN 2115-AA97

Safety Zone; Blue Water Offshore Classic, St. Clair River, MI

AGENCY: Coast Guard, DOT.

ACTION: Temporary final rule.

SUMMARY: The Coast Guard is establishing a temporary moving safety zone 1000 yards ahead, 1000 yards astern, and 50 yards to each side of any deep draft vessel that can safely navigate only within the channel of St. Clair River, during the Blue Water Offshore Classic on August 3, 4 and 5, 2001. The moving safety zone is necessary to prevent damage or injury to the deep draft vessels or personnel involved in the Blue Water Offshore Power Boat Race. Only authorized vessels are permitted to enter or remain within the safety zone.

DATES: This temporary final rule is effective from 8 a.m. on August 3, 2001, through 6 p.m. on August 5, 2001.

ADDRESSES: Comments and material received from the public, as well as documents indicated in this preamble as being available in the docket, are part of docket CGD09-01-099 and are available for inspection or copying at: U.S. Coast Guard Marine Safety Office Detroit, 110 Mt. Elliott St. Detroit, MI 48207, between 8 a.m. and 4 p.m., Monday through Friday, except Federal holidays.

FOR FURTHER INFORMATION CONTACT: ENS Brandon Sullivan, U.S. Coast Guard Marine Safety Office Detroit, telephone number (313) 568-9558.

SUPPLEMENTARY INFORMATION:

Regulatory Information

We did not publish a notice of proposed rulemaking (NPRM) for this regulation. Under 5 U.S.C. 553(b)(B), the Coast Guard finds that good cause exists for not publishing an NPRM. Under 5 U.S.C. 553(d)(3), the Coast Guard finds that good cause exists for making this rule effective less than 30 days after publication in the Federal Register. The permit application was not received in time to publish an NPRM followed by a final rule before the effective date. Delaying this rule would be contrary to the public interest of ensuring the safety of spectators and vessels during this event and immediate action is necessary to prevent possible loss of life or property.

Background and Purpose

A temporary moving safety zone is necessary to ensure the safety of commercial vessels and race participants from the hazards associated with high-speed powerboat racing. The likely combination of large numbers of recreational vessels, congested waterways, high-speed watercraft, and deep draft commercial vessels could easily result in serious injuries or fatalities. Establishing a moving safety zone to control vessel movement around the commercial vessels while transiting through the racecourse will help ensure the safety of persons and property at this event and help minimize the associated risk.

The moving safety zone will encompass all waters within 1000 yards ahead, 1000 yards behind, and 50 yards on either side of any deep draft vessel that can only safely navigate within the channel of St. Clair River.

The moving safety zone will be enforced to the South, 500 yards East of the Newman and River Road Intersection at position 42°51′54″ N, 082°28′00″ W. These coordinates are based upon North American Datum 1983 (NAD 83). To the North, the moving safety zone will be enforced 300 yards East of the St. Clair Michigan State Police Docks at position 42°28′54″ N, 082°28′48″ W (NAD 83).

All persons and vessels shall comply with the instructions of the Coast Guard Captain of the Port or the designated on scene patrol representative. Entry into, transiting, or anchoring within the safety zone is prohibited unless authorized by the Captain of the Port Detroit or his designated on scene representative. The Captain of the Port or his designated on scene representative may be contacted via VHF Channel 16.

Regulatory Evaluation

This rule is not a “significant regulatory action” under section 3(f) of Executive Order 12866 and does not require an assessment of potential costs and benefits under section 6(a)(3) of that order. The Office of Management and Budget has not reviewed this rule under that order. It is not “significant” under the regulatory policies and procedures of the Department of Transportation (DOT) (44 FR 11040, February 26, 1979). We expect the economic impact of this rule to be so minimal that a full Regulatory Evaluation under paragraph 10(e) of the regulatory policies and procedures of DOT is unnecessary.

This determination is based on the minimal time that vessels will be restricted from the zone, and therefore minor if any impacts to Mariners.

Small Entities

Under the Regulatory Flexibility Act (5 U.S.C. 601-612), we considered whether this rule would have a significant impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This rule would affect the following entities, some of which might be small entities: The owners or operators of commercial vessels intending to transit or anchor in a portion of the activated safety zone.

This moving safety zone will not have a significant economic impact on a substantial number of small entities for the following reasons: The safety zone is only in effect from 6 a.m. until 8 p.m. on the days of the event; commercial vessel traffic will not be impeded in any way by this moving safety zone and traffic may be allowed to pass through the safety zone under Coast Guard escort with the permission of the Captain of the Port Detroit or his designated on-scene representative. Before the effective period, we will issue maritime advisories widely available to users of the St. Clair River by the Ninth Coast Guard District Local Notice to Mariners, and Marine Information Broadcasts. Facsimile broadcasts may also be made.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects and participate in the rulemaking process. If the rule would affect your small business, organization, or governmental jurisdiction and you have questions concerning its provisions or options for compliance, please contact Marine Safety Office Detroit (see ADDRESSES).

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and does not concern an environmental risk to health or risk to safety that may disproportionately affect children.

Environment

We have considered the environmental impact of this rule and concluded that, under figure 2-1, paragraph 34(g) of Commandant Instruction M16475.1C, this rule is categorically excluded from further environmental documentation. A written categorical exclusion determination is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. A new temporary § 165.T09-980 is added to read as follows:

§ 165.T09-980 Safety Zone; Blue Water Offshore Classic, St. Clair River, MI.

(a) Location. This moving safety zone encompasses all waters within 1000 yards ahead, 1000 yards behind, and 50 yards on either side of any deep draft vessel that can only safely navigate within the channel of the St. Clair River. The moving safety zone will be enforced to the South, starting 500 yards East of the Newman and River Road Intersection at position 42°51′54″ N, 082°28′00″ W. To the North, the moving safety zone will be enforced starting 300 yards East of the St. Clair Michigan State Police Docks at position 42°28′54″ N, 082°28′48″ W. These coordinates are based upon North American Datum 1983 (NAD 83).

(b) Enforcement times and dates. This section will be enforced 8 a.m. until 6 p.m. on August 3, 4 and 5, 2001. The designated on-scene Patrol Commander may be contacted via VHF Channel 16.

(c) Regulations. In accordance with the general regulations in § 165.23 of this part, entry into the safety zone is prohibited unless authorized by the Coast Guard Captain of the Port Detroit, or his designated on-scene representative.

Dated: July 25, 2001.
S.P. Garrity,
Captain, U.S. Coast Guard, Captain of the Port Detroit.

[FR Doc. 01-19314 Filed 8-1-01; 8:45 am]

BILLING CODE 4910-15-U